ENVIRONMENTAL PROTECTION AGENCY

[OPP-100153; FRL-6487-1]

Eastern Research Group Inc. and ICF Incorporated; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Eastern Research Group Inc. and its subcontractor, ICF Incorporated, in accordance with 40 CFR 2.307(h)(3) and 2.308(i)(2). Eastern Research Group Inc. and its subcontractor, ICF Incorporated, have been awarded a contract to perform work for OPP, and access to this information will enable Eastern Research Group Inc. and its subcontractor, ICF Incorporated, to fulfill the obligations of the contract.

DATES: Eastern Research Group Inc. and its subcontractor, ICF Incorporated, will be given access to this information on or before January 24, 2000.

FOR FURTHER INFORMATION CONTACT: By mail: Erik R. Johnson, FIFRA Security Officer, Information Resources and Services Division (7502C), Office of Pesticide Programs, Environmental Protection Agency, 401 M St., SW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed in the “FOR FURTHER INFORMATION CONTACT.”

B. How Can I Get Additional Information, Including Copies of this Document and Other Related Documents?

You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/.

II. Contractor Requirements

Under Contract No. 68-W6-0022, Work Assignment No. 4-24, Eastern Research Group Inc. and its subcontractor, ICF Incorporated, will provide the EPA's Antimicrobial Division with technical support and studies review, in all areas of toxicology (e.g., acute, subchronic, and chronic toxicity) and ecological effects assessments and residue and product chemistry. Eastern Research Group Inc. and its subcontractor, ICF Incorporated, understand that the primary activities to be conducted under this work assignment will be the preparation of Data Evaluation Records (DER) of data and studies concerning the toxicological (Tasks 3.1 and 3.2) and ecological (Tasks 4.1 and 4.2) effects of pesticides, and literature searches on chemicals related to DERs as well as chemicals up for registration.

OPP has determined that access by Eastern Research Group Inc. and its subcontractor, ICF Incorporated, to information on all pesticide chemicals is necessary for the performance of this contract.

Some of this information may be entitled to confidential treatment. The information has been submitted to EPA under sections 3, 4, 6, and 7 of FIFRA and under sections 408 and 409 of the FFDCA.

In accordance with the requirements of 40 CFR 2.307(h)(2), the contract with Eastern Research Group Inc. and its subcontractor, ICF Incorporated, prohibits use of the information for any purpose not specified in the contract; prohibits disclosure of the information to a third party without prior written approval from the Agency; and requires that each official and employee of the contractor sign an agreement to protect the information from unauthorized release and to handle it in accordance with the FIFRA Information Security Manual. In addition, Eastern Research Group Inc. and its subcontractor, ICF Incorporated, are required to submit for EPA approval a security plan under which any CBI will be secured and protected against unauthorized release or compromise. No information will be provided to Eastern Research Group Inc. and its subcontractor, ICF Incorporated, until the requirements in this document have been fully satisfied. Records of information provided to Eastern Research Group Inc. and its subcontractor, ICF Incorporated, will be maintained by EPA Project Officers for this contract. All information supplied to Eastern Research Group Inc. and its subcontractor, ICF Incorporated, by EPA for use in connection with this contract will be returned to EPA when Eastern Research Group Inc. and its subcontractor, ICF Incorporated, have completed their work.

List of Subjects

Environmental protection, Business and industry, Government contracts, Government property, Security measures.

Dated: January 5, 2000.
Richard D. Schmitt,
Acting Director, Information Resources and Services Division, Office of Pesticide Programs.

[FR Doc. 00-1215 Filed 1-18-00; 8:45 am]

BILLING CODE 6560-50-F